DEPARTMENT OF LABOR

Employment and Training Administration

[TA-W-57,729]

Teleflex Medical Pilling Weck, Incorporated Including Leased Workers of Adecco Research Triangle Park, NC; Amended Certification Regarding Eligibility To Apply for Worker Adjustment Assistance and Alternative Trade Adjustment Assistance

In accordance with section 223 of the Trade Act of 1974 (19 U.S.C. 2273), and section 246 of the Trade Act of 1974, (26 U.S.C. 2813), as amended, the Department of Labor issued a Certification of Eligibility to Apply for Worker Adjustment Assistance and Alternative Trade Adjustment Assistance on August 30, 2005, applicable to workers of Teleflex Medical, including leased workers of Adecco, Research Triangle Park, North Carolina. The notice was published in the Federal Register on October 6, 2005 (70 FR 58478).

At the request of the company, the Department reviewed the certification for workers of the subject firm. The workers are engaged in the production of medical devices.

New information shows that that all workers separated from employment at the subject firm had their wages reported under a separate unemployment insurance (UI) tax account for Pilling Weck, Incorporated.

Accordingly, the Department is amending the certification to properly reflect this matter.

The intent of the Department's certification is to include all workers of Teleflex Medical, Research Triangle Park, North Carolina who was adversely affected increased imports.

The amended notice applicable to TA-W-57,729 is hereby issued as follows:

All workers of Teleflex Medical, Pilling Weck, Incorporated, including leased workers of Adecco, Research Triangle Park, North Carolina, who became totally or partially separated from employment on or after August 12, 2004, through August 30, 2007, are eligible to apply for adjustment assistance under Section 223 of the Trade Act of 1974, and are also eligible to apply for alternative trade adjustment assistance under section 246 of the Trade Act of 1974.

Signed at Washington, DC, this 8th day of December 2005.
Richard Church,
Certifying Officer, Division of Trade Adjustment Assistance.

[FR Doc. E5-7602 Filed 12-20-05; 8:45 am]

BILLING CODE 4510-30-P